DEPARTMENT OF LABOR

Employment and Training Administration

[TA-W-57,262]

Raybestos Automotive Components; a Subsidiary of Raytech Corporation, Sterling Heights, MI; Notice of Termination of Investigation

Pursuant to Section 221 of the Trade Act of 1974, as amended, an investigation was initiated on May 24, 2005 in response to a worker petition filed by United Automobile, Aerospace, & Agricultural Implement Workers of America, Local Union 771 on behalf of workers at Raybestos Automotive Components, a subsidiary of Raytech Corporation, Sterling Heights, Michigan.

The petitioner has requested that the petition be withdrawn. Consequently, the investigation has been terminated.

Signed at Washington, DC, this 22nd day of June, 2005.
Linda G. Poole,
Certifying Officer, Division of Trade Adjustment Assistance.

[FR Doc. E5-3763 Filed 7-14-05; 8:45 am]

BILLING CODE 4510-30-P